OFFICE OF THE UNITED STATES TRADE REPRESENTATIVE

Request for Public Comment Regarding the United States-European Union Transatlantic Economic Partnership as It Concerns Services Trade

AGENCY: Office of the United States Trade Representative (USTR).

ACTION: Notice and Request for Comments.

SUMMARY: The Office of the United States Trade Representative (USTR) seeks written public comments on general U.S. negotiating objectives as they concern the services trade component of the Transatlantic Economic Partnership (TEP). Under the TEP, the United States and the European Union (EU) have undertaken to facilitate opportunities for dialogue between regulators and to explore whether it is possible to develop mutual recognition agreements (MRAs) or other regulatory cooperation for certain insurance, architectural, and engineering services, while maintaining high standards of safety and protection for consumers. Comments received will be considered by USTR in its further work to formulate objectives and priorities for these deliberations.

DATES: Public comments should be submitted no later than September 11, 2000.

ADDRESSES: Gloria Blue, Executive Secretary, Trade Policy Staff Committee, Office of the U.S. Trade Representative, Room 122, 600 17th Street, NW, Washington, DC 20508.

FOR FURTHER INFORMATION CONTACT: Bernard Ascher (architectural and engineering services) or Ann Main (insurance or related services), Offices of Services, Investment, and Intellectual Property, (202) 395-4510. Procedural inquiries concerning the public comment process should be directed to Gloria Blue, Executive Secretary, Trade Policy Staff Committee, Office of the United States Trade Representative, (202) 395-3475.

SUPPLEMENTARY INFORMATION: On May 18, 1998, President Clinton and his EU counterparts issued a joint statement announcing the Transatlantic Economic Partnership (TEP) initiative. [Federal Register notice published on, June 9, 1998, describes the TEP.] On November 9, 1998, the United States and the EU agreed on a joint “Action Plan,” as called for in the May 18 TEP statement. A copy of the Action Plan is available on USTR's website (www.ustr.gov) or upon request from Ms. Gloria Blue. On June 9 and December 9, 1998, USTR published Federal Register Notices requesting public comment on the TEP. This notice is an additional request for information, focusing on the TEP as it relates to trade in services.

In the TEP initiative, the United States and the EU have undertaken to facilitate opportunities for dialogue between regulators and to explore whether it is possible to develop mutual recognition agreements (MRAs) or other regulatory cooperation for certain insurance, architectural, and engineering services, while maintaining high standards of safety and protection for consumers. Regulatory authorities are full participants in the process.

Architectural and Engineering Services: U.S. trade agreements, such as the U.S.-Canada Free Trade Agreement the North American Free Trade Agreement, provide a framework for the competent authorities and professional organizations to negotiate mutual recognition agreements with their counterparts in other countries. Mutual recognition in the architectural and engineering services sector would enable those licensed in one country to be licensed or recognized to practice in another country. U.S. officials are working with a number of national engineering and architectural organizations to develop negotiating approaches that could lead toward mutual recognition of U.S. and EU architects and engineers, while maintaining high quality standards of safety and protection of consumers. Licensed practitioners must meet the requirements of the jurisdiction in which they practice and must comply with all applicable laws and regulations of the host jurisdiction.

Insurance and Related Services: Regarding insurance services, U.S. officials are working with state insurance regulators to determine whether it is possible to develop mutual recognition or other regulatory cooperation for certain insurance sectors (e.g., commercial lines, reinsurance, agency/brokers). Private pension fund management, which is regulated at the federal level in the United States, is also a subject of consideration. Mutual recognition or other regulatory cooperation for insurance and related services could take various forms, including the possibility of greater uniformity of regulatory practices, or for regulators in one country to recognize the other country's regulatory practices as being sufficient for home country requirements.

Public Comments: All written comments should be addressed to Gloria Blue, Executive Secretary, Trade Policy Staff Committee, Office of the United States Trade Representative, 600 17th Street NW, Room 122, Washington, DC 20508. Persons submitting written comments should provide twenty (20) typed copies, as soon as possible, and by no later than September 11, 2000. USTR invites written comments from interested persons on the feasibility and desirability of negotiating MRAs in each sector identified above. Comments are invited in particular on: (a) The benefits of pursuing an MRA in each sector; and (b) any specific concerns regarding an MRA in any of the sectors, particularly any concerns regarding consumer protection. Comments should state clearly the position taken and should describe the specific information (including data, if possible) supporting that position. All submissions must be in English and should conform to the information requirements of 15 CFR Part 2003. Where possible, please supplement written comments with a computer disk of the submission, either in spreadsheet or word processing table format. The disk should have a label identifying the software used and the submitter.

Written comments submitted in connection with this request, except for information granted “business confidential” status pursuant to 15 CFR 2003.6, will be available for public inspection in the USTR Reading Room, Room 101, Office of the United States Trade Representative, 600 17th Street, NW, Washington, DC. An appointment to review the file may be made by calling Brenda Webb at (202) 395-6186. The reading room is open to the public by appointment only from 10 a.m. to 12 noon, and from 1 p.m. to 4 p.m. Monday through Friday.

Business confidential information, including any information submitted on disks, will be subject to the requirements of 15 CFR 2003.6. If the submission contains business confidential information, twenty (20) copies of a public version that does not contain confidential information must also be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

David Walters,
Acting Chair, Trade Policy Staff Committee.

[FR Doc. 00-20547 Filed 8-11-00; 8:45 am]

BILLING CODE 3190-01-M